FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 1, 2006.

A. Federal Reserve Bank of Minneapolis (Jacqueline G. King, Community Affairs Officer) 90 Hennepin Avenue, Minneapolis, Minnesota 55480-0291:

1. Walter W. Hilgenberg, Prior Lake, Minnesota, and Eric W. Hilgenberg Trust, Eric W. Hilgenberg, and Jennifer J. Hilgenberg, individually and as trustee, Rosemont, Minnesota, and Stuart A. Voigt, Apple Valley, Minnesota; to acquire voting shares of Commercial Bancshares, Inc., Bloomington, Minnesota, and thereby indirectly acquire voting shares of First Commercial Bank, Bloomington, Minnesota.

B. Federal Reserve Bank of Kansas City (Donna J. Ward, Assistant Vice President) 925 Grand Avenue, Kansas City, Missouri 64198-0001:

1. Jeffrey D. and Ruby L. Johnson, both of Midwest City, Oklahoma, and Jack L. and Linda J. Justice, both of Pauls Valley, Oklahoma; to acquire voting shares of MidWest Community Financial Corporation, Midwest City, Oklahoma, and thereby indirectly acquire voting shares of Canute Bancshares, Inc., Midwest City, Oklahoma, and The First State Bank of Canute, Canute, Oklahoma.

Board of Governors of the Federal Reserve System,
Robert deV. Frierson,
Deputy Secretary of the Board.

[FR Doc. E6-17196 Filed 10-16-06; 8:45 am]

BILLING CODE 6210-01-S